DEPARTMENT OF HEALTH AND HUMAN SERVICES

National Institutes of Health

National Institute of Mental Health; Amended Notice of Meeting

Notice is hereby given of a change in the meeting of the National Institute of Mental Health Special Emphasis Panel, February 03, 2017, 10:00 a.m. to February 03, 2017, 03:00 p.m., National Institutes of Health, Neuroscience Center, 6001 Executive Boulevard, Rockville, MD, 20852 which was published in the Federal Register on January 18, 2017, 82FR5588.

This meeting notice is amended to change the meeting time to 1:00 p.m.-5:00 p.m. The meeting is closed to the public.

Dated: February 1, 2017.
Melanie J. Pantoja,
Program Analyst, Office of Federal Advisory Committee Policy.

[FR Doc. 2017-02430 Filed 2-6-17; 8:45 am]

BILLING CODE 4140-01-P